NATIONAL SCIENCE FOUNDATION

Proposal Review Panel for Computing and Communication Foundations: Notice of Meeting

In accordance with the Federal Advisory Committee Act (Pub., L. 92-463, as amended), the National Science Foundation (NSF) announces the following meeting:

NAME AND COMMITTEE CODE: Proposal Review Panel for Computing and Communication Foundations—Science and Technology Centers—Integrative Partnerships Site Visit (#1192).

DATE AND TIME: May 14, 2017; 7:00 p.m.-8:30 p.m.

May 15, 16, 2017; 9:00 a.m.-5:00 p.m.

May 17, 2017; 8:30 a.m.-12:30 p.m.

PLACE: Massachusetts Institute of Technology (MIT), Cambridge, MA 02139.

TYPE OF MEETING: Part-Open.

CONTACT PERSON: John Cozzens, National Science Foundation, 4201 Wilson Boulevard, Room 1115, Arlington, VA 22230; Telephone: (703) 292-8910.

PURPOSE OF MEETING: Site visit to assess the progress of the STC Award: 1231216 “A Center for Brains, Minds and Machines: the Science and the Technology of Intelligence”, and to provide advice and recommendations concerning further NSF support for the Center.

AGENDA: MIT Renewal Review Site Visit.

Sunday, May 14, 2017

7:00 p.m. to 8:30 p.m.: Closed.

Site Team and NSF Staff meets to discuss Site Visit materials, review process and charge.

Monday & Tuesday, May 15-16, 2017

9:00 a.m. to 5:00 p.m.: Open.

Presentations by Awardee Institution, faculty staff and students, to Site Team and NSF Staff; Discussions, question and answer sessions.

Wednesday, May 17, 2017

8:30 a.m.-12:30 p.m.: Closed

Complete written site visit report with preliminary recommendations.

REASON FOR CLOSING: The work being reviewed during closed portions of the site review will include information of a proprietary or confidential nature, including technical information; financial data, such as salaries; and personal information concerning individuals associated with the project. These matters are exempt under 5 U.S.C. 552b(c), (4) and (6) of the Government in the Sunshine Act.

Dated: April 18, 2017.
Crystal Robinson,
Committee Management Officer.

[FR Doc. 2017-08067 Filed 4-20-17; 8:45 am]

BILLING CODE 7555-01-P